DEPARTMENT OF ENERGY

Federal Energy Regulatory Commission

[Docket No. EC05-52-000, et al.]

Trans-Elect, Inc., et al.; Electric Rate and Corporate Filings

February 22, 2005.

The following filings have been made with the Commission. The filings are listed in ascending order within each docket classification.

1. Trans-Elect, Inc. on behalf of Michigan Electric Transmission Company, LLC and Trans-Elect NTD Path 15, LLC

[Docket No. EC05-52-000]

Take notice that on February 16, 2005, Trans-Elect, Inc. (Trans-Elect), on behalf of Michigan Electric Transmission Company, LLC (METC) and Trans-Elect NTD Path 15, LLC (NTD Path 15), (collectively, Applicants,) filed an application, pursuant to section 203 of the Federal Power Act, requesting all authorizations and approvals necessary for the indirect disposition of METC's and NTD Path 15's Federal Power Act-jurisdictional facilities in connection with the proposed acquisition of all of the capital stock of Trans-Elect by Trans-Elect Holding Company. Applicants request privileged treatment for certain documents associated with the application pursuant to 18 CFR 33.9.

Comment Date: 5 p.m. Eastern Time on March 9, 2005.

2. Investigation of Certain Enron-Affiliated QFs, OLS Energy-Camarillo, OLS Energy-Chino

[Docket Nos. EL03-47-004, QF-84-447-005, QF84-443-005]

Take notice that on February 1, 2005, Enron North America Corp., Joint Energy Development Investments II Limited partnership, and Enron Wind LLC (collectively Enron North America), filed a supplement (February 1, 2005 supplement) to Docket No. EL03-47-000 to disclose ownership interests in two additional qualifying facilities (QFs).

On May 2, 2003, in an order initiating investigation and establishing hearing proceedings, the Commission ordered Enron Corporation (Enron) to identify all qualifying facilities in which Enron, or any Enron affiliate, or their employees, holds any ownership interest and/or control over, or had held any ownership interest and/or control over at any time from the date of Enron's merger with Portland General Corporation.¹ The Commission stated that it would set for hearing the issue of whether any facility on that list, which, following submission of that list, is claimed by Commission Trial Staff or any party to these proceedings to have failed to meet the ownership criteria for QF status, has failed to meet at any time the ownership criteria for QF status.

¹ Investigation of certain Enron-Affiliated QFs, Docket No. EL03-47-000, et al., 103 ¶ FERC 61,122 (2003).

In response, on June 3, 2003, as supplemented on July 8, 2003, Enron North America identified seventeen QFs in which it held ownership interests and or control over.

In the February 1, 2005 supplement, Enron North America states it identified two additional QFs as the result of efforts to respond to discovery in another proceeding. Enron North America determined that it had upstream indirect ownership interests in the two QFs, O.L.S. Energy—Camarillo and O.L.S. Energy—Chino.

Comment Date: March 15, 2005.

3. AG-Energy, L.P.; Power City Partners, L.P.; Seneca Power Partners, L.P.; Sterling Power Partners, L.P.; Sithe/Independent Power Partners, L.P.; Sithe Energy Marketing, L.P.

[Docket Nos. ER98-2782-008, ER03-42-008, ER02-2202-007]

Take notice that on February 14, 2005, AG-Energy, L.P. (AG-Energy), Power City Partners, L.P. (Power City), Seneca Power Partners, L.P. (Seneca), Sterling Power Partners, L.P. (Sterling), Sithe/Independent Power Partners, L.P., and Sithe Energy Marketing, L.P. (collectively, Sithe Entities) submitted an amendment to their revised triennial market power update in response to the Commission's January 5, 2005 deficiency letter. In addition, AG-Energy, Power City, Seneca and Sterling submitted amended tariffs to comply with the Commission's November 17, 2003 order in Docket No. EL01-118-000 establishing Market Behavior Rules.

Sithe Entities state that copies of the filing were served on the parties on the official service list in this proceeding.

Comment Date: 5 p.m. Eastern Time on March 7, 2005.

4. Pittsfield Generating Company, L.P.

[Docket No. ER98-4400-008]

Take notice that on February 15, 2005, Pittsfield Generating Company, L.P. (Pittsfield) tendered for filing with the Commission an updated market power analysis and request for market-based rate authority for ancillary services in the above proceeding.

Pittsfield states that copies of the filing were served upon the parties listed on the service list in this proceeding.

Comment Date: 5 p.m. Eastern Time on March 8, 2005.

5. Kansas City Power and Light Company and Great Plains Power, Inc.

[Docket Nos. ER99-1005-004, ER02-725-005]

Take notice that on February 15, 2005, Kansas City Power & Light Company, on behalf of itself and its Great Plains Power, Inc. affiliate (collectively KCPL) submitted a Delivered Price Test analysis in response to the Commission's December 17, 2004 Order in Docket No. ER99-1005-001, et al., 109 FERC ¶ 61,277.

KCPL states that copies of the filing were served on the parties on the official service list in these proceedings.

Comment Date: 5 p.m. Eastern Time on March 8, 2005.

6. Northern Iowa Windpower LLC

[Docket No. ER02-257-004]

Take notice that on February 14, 2005, Northern Iowa Windpower LLC (NIW) submitted a notice of change in status and a triennial updated market analysis.

NIW states that copies of the filing were served on the parties on the official service listed in this proceeding.

Comment Date: 5 p.m. Eastern Time on March 7, 2005.

7. California Independent System Operator Corporation

[Docket No. ER03-683-007]

Take notice that on February 14, 2005, the California Independent System Operator Corporation (ISO) submitted a filing in compliance with the Commission's order issued January 6, 2005 in Docket Nos. ER03-683-004 and 004, 110 FERC ¶ 61,007.

Comment Date: 5 p.m. Eastern Time on March 7, 2005.

8. PSEG Power Connecticut, LLC

[Docket No. ER05-231-002]

Take notice that on February 14, 2005, PSEG Power Connecticut, LLC submitted a compliance filing pursuant to the Commission's order issued January 14, 2005 in Docket No. ER05-231-000, 110 FERC ¶ 61,020 (2004).

Comment Date: 5 p.m. Eastern Time on March 7, 2005.

9. Southern Company Services, Inc.

[Docket No. ER05-404-001]

Take notice that, on February 16, 2005, Southern Company Services, Inc. acting as agent for Alabama Power Company, Georgia Power Company, Gulf Power Company, Mississippi Power Company, and Savannah Electric and Power Company (collectively, Southern Companies), submitted for filing additional information on Service Agreement No. 469 under the Open Access Transmission Tariff of Southern Companies, FERC Electric Tariff, Fourth Revised Volume No. 5, filed on December 30, 2004.

Comment Date: 5 p.m. Eastern Time on March 9, 2005.

10. Transmission Owners of the Midwest Independent Transmission System Operator Inc.

[Docket No. ER05-447-003]

Take notice that on February 17, 2005, the Transmission Owners of the Midwest Independent Transmission System Operator (Midwest ISO Transmission Owners) submitted for filing a change in the effective date of the proposed Schedule 23 to the Midwest Independent Transmission System Operator, Inc.'s tariff filed on January 13, 2005, as amended January 26, 2005 and February 11, 2005.

The Midwest ISO Transmission Owners state that they are serving this filing on all Midwest ISO's affected customers as well as on all applicable state commissions. The Midwest ISO also states that it will post a copy on its home page.

Comment Date: 5 p.m. Eastern Time on March 2, 2005.

11. New England Power Company

[Docket No. ER05-582-000]

Take notice that on February 16, 2005, New England Power Company (NEP) submitted for filing a Fourth Revised Service Agreement No. 20 between NEP and its affiliates, Massachusetts Electric Company (MECO) and Nantucket Electric Company (Nantucket) under NEP's FERC Electric Tariff, Original Volume No. 1.

NEP states that copies of this filing have been served on MECO, Nantucket, and regulators in the Commonwealth of Massachusetts.

Comment Date: 5 p.m. Eastern Time on March 9, 2005.

12. San Diego Gas & Electric Company

[Docket No. ER05-583-000]

Take notice that on February 16, 2005, San Diego Gas & Electric Company (SDG&E) tendered for filing Service Agreements Numbers 20 and 21 to its FERC Electric Tariff, First Revised Volume No. 6. SDG&E states that these agreements provide for SDG&E to construct, operate and maintain the proposed interconnection facilities required for a wind generation project being constructed and owned by Kumeyaay Wind, LLC in San Diego County. SDG&E requests an effective date of February 16, 2005.

SDG&E states that copies of the filing have been served on the Kumeyaay Wind, LLC, the California Independent System Operator Corporation and the California Public Utilities Commission.

Comment Date: 5 p.m. Eastern Time on March 9, 2005.

13. Midwest Independent Transmission System Operator, Inc.

[Docket No. ER05-584-000]

Take notice that on February 16, 2005, the Midwest Independent Transmission System Operator, Inc. (Midwest ISO) submitted a Large Generator Interconnection Agreement among Northern States Power Company d/b/a Xcel Energy-Generation, Northern States Power Company d/b/a Xcel Energy-Transmission and the Midwest ISO.

Midwest ISO states that a copy of this filing was served on the parties to this Interconnection Agreement.

Comment Date: 5 p.m. Eastern Time on March 9, 2005.

14. Portland General Electric Company

[Docket No. ER05-585-000]

Take notice that on February 16, 2005, Portland General Electric Company (PGE) tendered for filing new and revised tariff sheets to its Open Access Transmission Tariff. PGE states that the new and revised sheets are intended to incorporate the changes to the Pro Forma Large Generator Interconnection Procedures and Large Generator Interconnection Agreement issued by the Commission in FERC Order No. 2003-B on December 20, 2004. PGE requests an effective date of April 15, 2005 for the changes.

PGE states that a copy of this filing was supplied to the Public Utility Commission of Oregon.

Comment Date: 5 p.m. Eastern Time on March 9, 2005.

15. Kentucky Utilities Company

[Docket No. ER05-586-000]

Take notice that on February 16, 2005, Kentucky Utilities (KU), a subsidiary of LG&E Energy LLC, tendered for filing two fully executed amendments to the contract between KU and the City of Owensboro Kentucky dealing with the pricing of power received from the Southeastern Power Administration.

Comment Date: 5 p.m. Eastern Time on March 9, 2005.

16. Virginia Electric and Power Company

[Docket No. ER05-587-000]

Take notice that on February 16, 2005, Virginia Electric and Power Company (Virginia Electric), tendered for filing revised sheets to its Rate Schedule FERC No. 109, a power sales agreement with Virginia Municipal Electric Association Number 1 (VMEA). Virginia Electric states that the revised sheets incorporate changes to reflect their commencement of operations as a member of the PJM Interconnection, L.L.C. and to make effective rate changes to which the parties have previously agreed.

Virginia Electric states that copies of the filing were served on VMEA and the Virginia State Corporation Commission.

Comment Date: 5 p.m. Eastern Time on March 9, 2005.

17. Midwest Independent Transmission System Operator, Inc.

[Docket No. ER05-590-000]

Take notice that on February 16, 2005, the Midwest Independent Transmission System Operator, Inc. (Midwest ISO) submitted Amendment No. 1 to a Generation-Transmission Interconnection Agreement (Port Washington Generating Facility) among Wisconsin Electric Power Company, the Midwest ISO and American Transmission Company LLC.

Midwest ISO states that a copy of this filing was served on the parties to this Interconnection Agreement.

Comment Date: 5 p.m. Eastern Time on March 9, 2005.

18. Westar Energy, Inc.

[Docket No. ER05-601-000]

Take notice that on February 4, 2005, Westar Energy, Inc. (Westar) submitted for filing a Notice of Cancellation for Rate Schedule FERC No. 276, the Coal Participation Power Agreement between Westar and the City of Burlington, Kansas.

Westar states that copies of the filing were served upon the City of Burlington, Kansas and the Kansas Corporation Commission.

Comment Date: 5 p.m. Eastern Time on March 4, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Linda Mitry,
Deputy Secretary.

[FR Doc. E5-802 Filed 2-28-05; 8:45 am]

BILLING CODE 6717-01-P